FEDERAL MARITIME COMMISSION

[Docket No. 16-01]

Cargo Agents, Inc, International Transport Management Corp., and RCL Agencies, Inc., on Behalf of Themselves and All Others Similarly Situated v. Nippon Yusen Kabushiki Kaisha, NYK Line (North America) Inc., Mitsui O.S.K. Lines, Ltd., MITSUI O.S.K. Bulk Shipping (USA) Inc., World Logistics Service (U.S.A.), Inc., Kawasaki Kisen Kaisha Ltd., “K” Line America, Inc., Eukor Car Carriers Inc., Wallenius Wilhelmsen Logistics as, Wallenius Wilhelmsen Logistics Americas LLC, Compañia Sud Americana de Vapores S.A., CSAV Agency North America, LLC, Höegh Autoliners Holdings as, Höegh Autoliners as, Höegh Autoliners, Inc., Autotrans as, Alliance Navigation LLC, and Nissan Motor Car Carrier Co., LTD.; Notice of Filing of Complaint and Assignment

Notice is given that a “Class Action Complaint” has been filed with the Federal Maritime Commission (Commission) by Cargo Agents, Inc., International Transport Management, Corp., and RCL Agencies, Inc. on behalf of themselves and all others similarly situated, hereinafter “Complainants,” against the vehicle transport services providers named in the above caption, hereinafter “Respondents.” Complainants state that they are purchasers of “Vehicle Carrier Services” from Respondents. Complainants allege that Respondents “are the largest providers of deep sea vehicle transport services . . . in the world, including for shipments to and from the United States.”

Complainants allege that Respondents violated provisions of the Shipping Act of 1984, including 46 U.S.C. 40302(a), 41102(b)(1), 41102(c), 41104(10), 41105, and the Commission's regulations at 46 CFR 535.401 et seq., because they “have conspired to allocate customers and markets, to rig bids, to restrict supply, and otherwise to raise, fix, stabilize, or maintain prices for Vehicle Carrier Services for shipment to and from the United States, pursuant to agreements between and among them that were not filed with the Federal Maritime Commission . . . and that otherwise violated the Shipping Act and regulations promulgated thereunder.”

Complainants request the following relief:

“(a) That the Respondents be required to answer the charges herein;

(b) That the Commission certify this action as a class action under Rules 23(a) and (b)(3) of the Federal Rules of Civil Procedure and that Complainants be deemed adequate representatives of the Class;

(c) That, after due investigation and hearing, Respondents be found to have violated [the Shipping Act provisions and Commission regulations listed above];

(d) That the Commission order Respondents to cease and desist from violating the Shipping Act, including the above-specified provisions thereof;

(e) That Complainants and the Class recover reparations in a sum to be proven under 46 U.S.C. 41305, with interest . . .;

(f) That Complainants and the Class members recover their costs of the suit including reasonable attorneys' fees as provided by 46 U.S.C. 41305(e);

(g) That Complainants and the Class be awarded up to double their proven actual injury under 46 U.S.C. 41305(c) because Respondents and their co-conspirators violated 46 U.S.C. 41102(b) and 41105(1) and (3);

(h) That Respondents be found jointly and severally liable for the conduct alleged herein, including that of their co-conspirators; and

(i) That the Commission direct further relief as it may deem just and proper.”

The full text of the complaint can be found in the Commission's Electronic Reading Room at www.fmc.gov/16-01.

This proceeding has been assigned to the Office of Administrative Law Judges. The initial decision of the presiding officer in this proceeding shall be issued by January 6, 2017 and the final decision of the Commission shall be issued by July 20, 2017.

Karen V. Gregory,
Secretary.

[FR Doc. 2016-00516 Filed 1-12-16; 8:45 am]

BILLING CODE 6731-0AA-P